FEDERAL MARITIME COMMISSION

46 CFR Part 501, 535, and 542

RIN 3072-AD04

[FMC-2025-0002]

Delegations of Authority and Descriptions of Organization Components

AGENCY: Federal Maritime Commission.

ACTION: Final rule.

SUMMARY: The Federal Maritime Commission (Commission or FMC) is revising certain delegations of authority from the Commission, updating descriptions of organization components, and making minor related technical amendments. These revisions reflect re-organization of certain functions within the agency.

DATES: Effective June 20, 2025.

FOR FURTHER INFORMATION CONTACT: David Eng, Secretary; Phone: (202) 523-5725; Email: Secretary@fmc.gov.

SUPPLEMENTARY INFORMATION:

Overview of Changes

In December 2024, the Commission brought the competition staff of the FMC's Bureau of Trade Analysis and the competition staff of the Office of the General Counsel together under a new Competition Section within the Office of the General Counsel. This realignment enables the agency to have the economists and lawyers who make up our competition staff work together as one integrated unit. During this transition, the Commission also realigned the Bureau of Trade Analysis to emphasize its core function, which is to provide maritime supply chain analytics. These changes are reflected in revisions to 46 CFR 501.3, 501.12 and 501.17. Corresponding changes in part 535 are being made in 46 CFR 535.301(d), 535.302(d), 535.311(c), 535.501(b), 535.504(b), 535.606(a), 535.701(d) and (e)(2), 535.702(b), 535.703(c), 535.705(b), 535.802(e) and Appendix B to Part 535—Monitoring Report and Instructions to remove references to the Bureau of Trade Analysis. In association with this change, the FMC is also revising § 542.1(j)(2) to remove the reference to the Director of the Bureau of Trade Analysis. Parties required to file documented export policies with the Commission under § 542.1 will continue to submit these reports via the same email address, exportpolicy@fmc.gov.

Legal Authority

The Commission is authorized under 46 U.S.C. 46104(a) to delegate within the agency any of its duties or powers and under 46 U.S.C. 46105(a) to prescribe regulations to carry out its duties and powers. In addition, 5 U.S.C. 552(a)(1)(A) directs agencies to publish in the Federal Register descriptions of their central organization.

Rulemaking Analysis

Administrative Law Matters

This rule relates solely to agency organization, procedure, or practice. Accordingly, the Administrative Procedure Act (APA)'s provisions regarding notice of rulemaking and opportunity for public comment are not applicable. 5 U.S.C. 553(b)(A). The Commission finds that there is good cause to establish an effective date less than 30 days after publication of this amendment because this amendment does not affect the rights or obligations of non-agency parties, 5 U.S.C. 553(d). This amendment is therefore effective upon publication in the Federal Register. Because notice and comment are not required, the Regulatory Flexibility Act and the Small Business Regulatory Enforcement Fairness Act, 5 U.S.C. 601 et seq., are not applicable. This amendment does not contain any collection of information requirements as defined by the Paperwork Reduction Act of 1995. See 5 CFR 1320.3(c).

Federal Register

Executive Order 12866

This action is limited to agency organization, management, and personnel matters and therefore is not a “regulation” or “rule” under Executive Order 12866 (Regulatory Planning and Review), section 3(d)(3). Accordingly, this action has not been reviewed by the Office of Management and Budget.

Executive Order 14192

This action is limited to agency organization, management, and personnel matters and therefore is not a “regulation” or “rule” under section 5(b) of Executive Order 14192 (Unleashing Prosperity Through Deregulation). Accordingly, sections 3 and 4 of Executive Order 14192 are not applicable to this action.

Congressional Review Act

The Congressional Review Act (CRA), codified at 5 U.S.C. 801 et seq., adopts the Administrative Procedure Act's definition of a “rule” in 5 U.S.C. 551, subject to certain exclusions. See 5 U.S.C. 804(3). In particular, the CRA does not apply to rules relating to agency management and personnel and rules of agency organization, procedure, and practice that do not substantially affect the rights or obligations of non-agency parties. Id. This final rule relates to agency management and personnel as well as agency organization, procedures, and practices. Therefore, this final rule is not a “rule” under the CRA and is not subject to the CRA's requirements.

Executive Order 12988 (Civil Justice Reform)

This rule meets the applicable standards in Executive Order 12988 (Civil Justice Reform) to minimize litigation, eliminate ambiguity, and reduce burden.

National Environmental Policy Act

This rule is an action involving personnel matters of the agency. It is therefore categorically excluded from additional review under 46 CFR 504.4(a)(28).

List of Subjects

46 CFR Part 501

Delegations of authority, Organization and functions, Seals and insignia.

46 CFR Part 535

Administrative practice and procedure, Freight, Maritime carriers, Reporting and recordkeeping requirements.

46 CFR Part 542

Administrative practice and procedure, Cargo vessels, Common carriers, Maritime carriers, and Vessels.

For the reasons set out above, the Federal Maritime Commission amends 46 CFR parts 501, 535, and 542 as follows:

PART 501—THE FEDERAL MARITIME COMMISSION—GENERAL

1. The authority citation for part 501 continues to read as follows:

Authority: 5 U.S.C. 551-557, 701-706, 2903 and 6304; 31 U.S.C. 3721; 41 U.S.C. 414 and 418; 44 U.S.C. 501-520 and 3501-3520; 46 U.S.C. 40101-41309, 42101-42109, 44101-44106, 46101-46108; Pub. L. 89-56, 70 Stat. 195; 5 CFR part 2638; Pub. L. 104-320, 110 Stat. 3870.

2. In § 501.3, revise paragraphs (d)(1) and (f)(3)(viii) to read as follows:

§ 501.3 The Commission's organizational components and their functions.

* * * * *

(d) * * *

(1) General. The Office of the General Counsel provides legal services to the Commission and to the Commission staff, manages the Commission's international affairs functions, monitors rates of government-controlled carriers, reviews agreements and monitors the concerted activities of ocean common carriers and marine terminal operators, and is responsible for competition oversight.

* * * * *

(f) * * *

(3) * * *

(viii) Bureau of Trade Analysis. The Bureau of Trade Analysis reviews and analyzes service contracts, reviews carrier published tariff systems, responds to inquiries or issues that arise concerning service contracts or tariffs, and is responsible for market analysis.

* * * * *

3. In § 501.12, add paragraphs (c) through (m) to read as follows:

§ 501.12 Delegation to the General Counsel.

* * * * *

(c) Authority to determine that no action should be taken to prevent an agreement or modification to an agreement from becoming effective under 46 U.S.C. 40304(c), and to shorten the review period under 46 U.S.C. 40304(c)(1) and (e)(1), when the agreement or modification involves solely a restatement, clarification, or change in an agreement which adds no new substantive authority beyond that already contained in an effective agreement. This category of agreement or modification includes, for example, the following: a restatement filed to conform an agreement to the format and organization requirements of part 535 of this chapter; a clarification to reflect a change in the name of a country or port or a change in the name of a party to the agreement; a correction of typographical or grammatical errors in the text of an agreement; a change in the title of persons or committees designated in an agreement; or a transfer of functions from one person or committee to another.

(d) Authority to grant or deny applications filed under § 535.407 of this chapter for waiver of the form, organization, and content requirements of §§ 535.401 through 535.406 of this chapter.

(e) Authority to grant or deny applications filed under § 535.504 of this chapter for waiver of the Information Form requirements in subpart E of part 535 of this chapter.

(f) Authority to grant or deny applications filed under § 535.705 of this chapter for waiver of the reporting requirements in subpart G of part 535 of this chapter.

(g) Authority to determine that no action should be taken to prevent an agreement or modification of an agreement from becoming effective under 46 U.S.C. 40304(c)(1) for all unopposed agreements and modifications to agreements which will not result in a significant reduction in competition. Agreements which are deemed to have the potential to result in a significant reduction in competition and which, therefore, are not covered by the delegation in this paragraph (g) include but are not limited to:

(1) New agreements authorizing the parties to collectively discuss or fix rates (including terminal rates).

(2) New agreements authorizing the parties to pool cargoes or revenues.

(3) New agreements authorizing the parties to establish a joint service or consortium.

(4) New equal access agreements.

(h) Authority to grant or deny shortened review pursuant to § 535.605 of this chapter for agreements for which authority is delegated in paragraph (g) of this section.

(i) Authority to deny, but not approve, requests filed pursuant to § 535.605 of this chapter for a shortened review period for agreements for which authority is not delegated under paragraph (g) of this section.

(j) Authority to issue notices of termination of agreements which are otherwise effective under the Shipping Act of 1984, as amended, after publication of notice of intent to terminate in the Federal Register, when such terminations are:

(1) Requested by the parties to the agreement;

(2) Based on the General Counsel's determination that the parties are no longer engaged in activity under the agreement; or

(3) Based on the withdrawal of the next to last party to an agreement without notification of the addition of another party prior to the effective date of the next to last party's withdrawal.

(k) Authority to determine whether agreements for the use or operation of terminal property or facilities, or the furnishing of terminal services, are within the purview of 46 U.S.C. chapter 403.

(l) Authority to require controlled carriers to file justifications for existing or proposed rates, charges, classifications, rules, or regulations, and to review responses to such requests for the purpose of recommending to the Commission that a rate, charge, classification, rule, or regulation be found unlawful and, therefore, requires Commission action under 46 U.S.C. 40704(b)-(e).

(m) Authority to require Monitoring Reports from, or prescribe alternative periodic reporting requirements for, parties to agreements under § 535.702(c) and (d) of this chapter.

4. Revise § 501.17 as follows:

§ 501.17 Delegation to and Redelegation by the Director, Bureau of Trade Analysis.

(a) Authority to recommend to the Commission the initiation of formal proceedings or other actions with respect to suspected violations of the Shipping Act of 1984, as amended, and rules and regulations of the Commission.

(b) The authority to accept, deny, or deactivate a Form FMC-1 submitted by ocean common carriers, non-vessel-operating common carriers, conferences, and marine terminal operators under parts 520 and 525 of this chapter.

(c) Authority contained in part 530 of this chapter to approve, but not deny, requests for permission to correct clerical or administrative errors in the essential terms of filed service contracts.

PART 535—OCEAN COMMON CARRIER AND MARINE TERMINAL OPERATOR AGREEMENTS SUBJECT TO THE SHIPPING ACT OF 1984.

5. The authority citation for part 535 continues to read as follows:

Authority: 5 U.S.C. 553; 46 U.S.C., 40101-40104, 40301-40307, 40501-40503, 40901-40904, 41101-41109, 41301-41302, and 41305-41307, 46105.

§ 535.301 [Amended]

6. In § 535.301(d) remove the words “Bureau of Trade Analysis” and add in their place “Office of the General Counsel”.

§ 535.302 [Amended]

7. In § 535.302(d) remove the words “Director of the Bureau of Trade Analysis” and add in their place “General Counsel”.

§ 535.311 [Amended]

8. In § 535.311(c) remove the words “Director, Bureau of Trade Analysis,” and add in their place “General Counsel”.

§ 535.501 [Amended]

9. In § 535.501(b) remove the words “Bureau of Trade Analysis” and add in their place “Commission”.

§ 535.504 [Amended]

10. In § 535.504(b) remove the words “Director, Bureau of Trade Analysis,” and add in their place “General Counsel,”.

§ 535.606 [Amended]

11. In § 535.606(a) remove the words “Director, Bureau of Trade Analysis,” and add in their place “Office of the General Counsel,”.

§ 535.701 [Amended]

12. In § 535.701:

a. In paragraph (d):

1. Remove the words “Director, Bureau of Trade Analysis,” and add in their place “General Counsel,”; and

2. Remove the words “Bureau of Trade Analysis” and add in their place “Commission”; and

b. In paragraph (e)(2), remove the words “Bureau of Trade Analysis” and add in their place “Office of the General Counsel”.

§ 535.702 [Amended]

13. In § 535.702(b) remove the words “Bureau of Trade Analysis” and add in their place “Office of the General Counsel”.

§ 535.703 [Amended]

14. In § 535.703(c) remove the words “Director, Bureau of Trade Analysis,” and add in their place “Office of the General Counsel”.

§ 535.705 [Amended]

15. In § 535.705(b) introductory text, remove the words “Director, Bureau of Trade Analysis,” and add in their place “General Counsel,”.

§ 535.802 [Amended]

16. In § 535.802(e) remove the words “Director, Bureau of Trade Analysis,” and add in their place “Office of the General Counsel,”.

Appendix B to Part 535 [Amended]

17. In appendix B to part 535, amend part 2(C) by removing the words “Director, Bureau of Trade Analysis,” and add in their place “Office of the General Counsel”.

PART 542—COMMON CARRIER PROHIBITIONS

18. The authority citation for part 542 continues to read as follows:

Authority: 5 U.S.C. 553; and 46 U.S.C. 40104, 46105, 40307, 40501-40503, 40901-40904, 41101-41106.

§ 542.1 [Amended]

19. In § 542.1(j)(2) remove the words “Director, Bureau of Trade Analysis,”.

By the Commission.
David Eng,
Secretary.

[FR Doc. 2025-11306 Filed 6-18-25; 8:45 am]

BILLING CODE 6730-02-P